DEPARTMENT OF AGRICULTURE

Food and Nutrition Service

Agency Information Collection Activities: Proposed Collection; Comment Request—Determining Eligibility for Free and Reduced Price Meals and Free Milk

AGENCY: Food and Nutrition Service, USDA.

ACTION: Notice.

SUMMARY: In accordance with the Paperwork Reduction Act of 1995, this notice invites the general public and other public agencies to comment on this information collection. This is a revision of a currently approved collection for determining eligibility for free and reduced price meals and free milk as stated in 7 CFR part 245. These federal requirements affect eligibility under the National School Lunch Program, School Breakfast Program, and the Special Milk Program and are also applicable to the Child and Adult Care Food Program and the Summer Food Service Program when individual eligibility must be established. The current approval for the information collection burden associated with 7 CFR part 245 expires on April 30, 2016. The revisions being requested are primarily adjustments due to updating the number of respondents.

DATES: Written comments must be submitted by March 14, 2016.

ADDRESSES: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of collection of information on those who are to respond, including use of appropriate automated, electronic, mechanical, or other technological collection techniques or other forms of information technology.

Comments may be sent to: Sarah Smith-Holmes, Director of Program Monitoring and Operational Support Division, Child Nutrition Programs, Food and Nutrition Service, U.S. Department of Agriculture, 3101 Park Center Drive, Alexandria, Virginia 22302-1594. Comments will also be accepted through the Federal eRulemaking Portal. Go to http://www.regulations.gov, and follow the online instructions for submitting comments electronically. All responses to this notice will be summarized and included in the request for Office of Management and Budget (OMB) approval, and will become a matter of public record.

FOR FURTHER INFORMATION CONTACT: Sarah Smith-Holmes, Director of Program Monitoring and Operational Support Division; Sarah.Smith-Holmes@fns.usda.gov.

SUPPLEMENTARY INFORMATION:

Title: 7 CFR part 245—Determining Eligibility for Free and Reduced Price Meals and Free Milk in Schools.

OMB Number: 0584-0026.

Expiration Date: April 30, 2016.

Type of Request: Revision of a currently approved collection.

Abstract: The Food and Nutrition Service administers the National School Lunch Program, the School Breakfast Program, and the Special Milk Program as mandated by the Richard B. Russell National School Lunch Act (NSLA), as amended (42 U.S.C. 1751, et seq.), and the Child Nutrition Act of 1966, as amended (42 U.S.C. 1771, et seq.). Per 7 CFR part 245, schools participating in these meal and milk programs must make free and reduced price meals and free milk available to eligible children. This information collection obtains eligibility information for free and reduced price meals and free milk and also incorporates verification procedures as required to confirm eligibility. The Programs are administered at the State and local educational agency levels and operations include direct certification, the submission of household size and income applications for school meal/milk benefits, record maintenance, and public notification. The information collection burden associated with this revision is summarized in the chart below. The difference in burden is mainly due to updating the number of participating school food authorities and local educational agencies and the number of households having to submit an application. All of the reporting and recordkeeping requirements associated with this information collection are currently approved by the Office of Management and Budget and are in force. This is a revision of the currently approved information collection.

Affected Public: State Agencies, School Food Authorities, Schools, and Individuals/Households.

Estimated Number of Respondents: 5,449,186 (56 SAs, 19,822 SFAs, 5,390,000 households).

Estimated Number of Responses per Respondent: 3.035.

Estimated Total Annual Responses: 16,540,513.

Estimated Hours per Response: 0.0580889.

Estimated Total Annual Reporting Burden: 947,920.

Estimated Total Annual Recordkeeping Burden: 5,958.

Estimated Total Annual Public Disclosure Burden: 6,943.

Estimated Total Annual Burden: 960,821.

Current OMB Inventory for Part 245: 966,023.

Difference (Burden Revisions Requested with this renewal): −5,202.

Refer to the following table for estimated annual burden per each type of respondent:

(a) Affected public | (b) Estimated number respondents | (c) Estimated number responses per respondent | (d) Estimated total annual responses (b × c) | (e) Estimated hours per response | (f) Estimated total annual burden hours (d × e)
Reporting
State Agencies | 56 | 5.018 | 281 | 0.637 | 179
School Food Authorities | 19,600 | 557.247 | 10,922,050 | 0.025 | 274,741
Individuals/Households | 5,390,000 | 1.03 | 5,551,000 | 0.121 | 673,000
Total Reporting Burden | 5,409,656 | 3.045 | 16,473,331 | 0.058 | 947,920
Recordkeeping
State Agencies | 54 | 125.772 | 6,792 | 0.249 | 1,691
School Food Authorities | 19,600 | 1.056 | 20,692 | 0.206 | 4,267
Total Recordkeeping Burden | 19,654 | 1.398 | 27,484 | 0.217 | 5,958
Public Notification
State Agencies | 54 | 1 | 54 | 0.100 | 5
School Food Authorities | 19,822 | 2 | 39,644 | 0.175 | 6,938
Total Recordkeeping Burden | 19,876 | 2 | 39,698 | 0.17 | 6,943
Total Reporting, Recordkeeping and Public Disclosure
Reporting | 5,409,656 | 3.045 | 16,473,331 | 0.058 | 947,920
Recordkeeping | 19,654 | 1.398 | 27,484 | 0.217 | 5,958
Public Disclosure | 19,876 | 2 | 39,698 | 0.17 | 6,943
Total Reporting, Recordkeeping, and Public Disclosure Burden | 5,449,186 |  | 16,540,513 |  | 960,821

Dated: December 29, 2015.
Audrey Rowe,
Administrator, Food and Nutrition Service.

[FR Doc. 2016-00514 Filed 1-12-16; 8:45 am]

BILLING CODE 3410-30-P